DEPARTMENT OF DEFENSE

Defense Acquisition Regulations System

[OMB Control Number 0704-0231]

Information Collection Requirement; Defense Federal Acquisition Regulation Supplement; Part 237, Service Contracting

AGENCY: Defense Acquisition Regulations System, Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through October 31, 2010. DoD proposes that OMB extend its approval for these collections to expire three years after the approval date.

DATES: DoD will consider all comments received by May 17, 2010.

ADDRESSES: You may submit comments, identified by OMB Control Number 0704-0231, using any of the following methods:

○ Federal eRulemaking Portal: http://www.regulations.gov. Follow the instructions for submitting comments.

○ E-mail: dfars@acq.osd.mil. Include OMB Control Number 0704-0231 in the subject line of the message.

○ Fax: (703) 602-0350.

○ Mail: Defense Acquisition Regulations System, Attn: Ms. Meredith Murphy, OUSD(AT&L)DPAP(DARS), 3060 Defense Pentagon, Room 3B855, Washington, DC 20301-3060.

Comments received generally will be posted without change to http://www.regulations.gov, including any personal information provided.

FOR FURTHER INFORMATION CONTACT: Ms. Meredith Murphy, (703) 602-1302. The information collection requirements addressed in this notice are available electronically on the World Wide Web at: http://www.acq.osd.mil/dp/dars/dfars.html. Paper copies are available from Ms. Meredith Murphy, OUSD(AT&L)DPAP(DARS), 3060 Defense Pentagon, Room 3B855, Washington, DC 20301-3060.

SUPPLEMENTARY INFORMATION: Title, Associated Form, and OMB Number: Defense Federal Acquisition Regulation Supplement (DFARS) Part 237, Service Contracting, the associated clauses at DFARS 252.237-7000, Notice of Special Standards of Responsibility, and 252.237-7011, Preparation History, and DD Form 2063, Record of Preparation and Disposition of Remains (Within CONUS); OMB Control Number 0704-0231.

Needs and Uses: This information collection is used by contracting officers for two distinct purposes.

Audit Services. The clause at 252-237.7000 is used to provide information that enables verification that the apparently successful offeror for audit services is licensed by the cognizant licensing authority in the state or other political jurisdiction where the offeror operates its professional practice.

Mortuary Services. The clause at DFARS 252-237.7001 and DD Form 2063 are used (a) to ensure that the mortuary contractor has properly prepared the body, and (b), by the contract carrier, so that the body can be shipped by that carrier. When additional preparation of the body is required subsequent to shipment, information regarding the initial preparation of the body may be used by the mortuary services contractor to whom the body has been shipped.

Affected Public: Businesses or other for-profit and not-for-profit institutions.

Annual Burden Hours: 405.

Number of Respondents: 810.

Responses per Respondent: 1.

Annual Responses: 810.

Average Burden per Response: 0.5 hour average.

Frequency: On occasion.

Summary of Information Collection

DFARS Part 237, the clauses at DFARS 252.237-7000 and 252.237-7011, and DD Form 2063 are required for DoD contracting officers to—

(a) Verify that the apparently successful offeror for audit services is licensed by the cognizant licensing authority in the state or other political jurisdiction where the offeror operates its professional practice; or

(b) Ensure that the mortuary contractor has properly prepared the body, and by the contract carrier so that the body can be shipped by that carrier. When additional preparation of the body is required subsequent to shipment, information regarding the initial preparation of the body may be used by the mortuary services contractor to whom the body has been shipped.

Ynette R. Shelkin,
Editor, Defense Acquisition Regulations System.

[FR Doc. 2010-5735 Filed 3-15-10; 8:45 am]

BILLING CODE 5001-08-P